SMALL BUSINESS ADMINISTRATION

[Disaster Declaration #14694 and #14695]

Illinois Disaster #IL-00048

AGENCY: U.S. Small Business Administration.

ACTION: Notice.

SUMMARY: This is a notice of an Administrative declaration of a disaster for the State of ILLINOIS dated 04/13/2016.

Incident: Severe Storms and Flooding.

Incident Period: 12/23/2015 through 01/13/2016.

DATES: Effective Date: 04/13/2016.

Physical Loan Application Deadline Date: 06/13/2016.

Economic Injury (EIDL) Loan Application Deadline Date: 01/13/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416

SUPPLEMENTARY INFORMATION: Notice is hereby given that as a result of the Administrator's disaster declaration, applications for disaster loans may be filed at the address listed above or other locally announced locations.

The following areas have been determined to be adversely affected by the disaster:

Primary Counties: Christian Iroquois

Contiguous Counties:

Illinois: Ford, Kankakee, Macon, Montgomery, Sangamon, Shelby, Vermilion

Indiana: Benton, Newton

The Interest Rates are:

| Percent
For Physical Damage:
Homeowners with Credit Available Elsewhere | 3.625
Homeowners without Credit Available Elsewhere | 1.813
Businesses with Credit Available Elsewhere | 6.000
Businesses without Credit Available Elsewhere | 4.000
Non-Profit Organizations with Credit Available Elsewhere | 2.625
Non-Profit Organizations without Credit Available Elsewhere | 2.625
For Economic Injury:
Businesses & Small Agricultural Cooperatives without Credit Available Elsewhere | 4.000
Non-Profit Organizations without Credit Available Elsewhere | 2.625

The number assigned to this disaster for physical damage is 14694 B and for economic injury is 14695 0.

The States which received an EIDL Declaration # are ILLINOIS and INDIANA.

(Catalog of Federal Domestic Assistance Number 59008)

Dated: April 13, 2016.
Maria Contreras-Sweet,
Administrator.

[FR Doc. 2016-09389 Filed 4-21-16; 8:45 am]

BILLING CODE 8025-01-P